FEDERAL RETIREMENT THRIFT INVESTMENT BOARD

Sunshine Act; Notice of Board Member Meeting

Agenda

November 28, 2017, 8:30 a.m. (In-Person).

Open Session

1. Approval of the minutes for the October 23, 2017 Board Member Meeting

2. Monthly Reports

(a) Participant Activity

(b) Investment Performance

(c) Legislative Report

3. Quarterly Reports

(d) Metrics

(e) Project Activity

4. Capital Market and L Fund Annual Asset Allocation Review

5. TSP Investment Option Benchmark Study

6. 2018 Proposed Internal Audit Schedule

7. Enterprise Risk Framework and Dashboard

8. Blended Retirement Update

9. IT Update

Closed Session

Information covered under 5 U.S.C. 552b (c)(6) and (c)(9)(B).

Adjourn.

CONTACT PERSON FOR MORE INFORMATION: Kimberly Weaver, Director, Office of External Affairs, (202) 942-1640.

Dated: November 16, 2017.
Megan Grumbine,
General Counsel, Federal Retirement Thrift Investment Board.

[FR Doc. 2017-25184 Filed 11-16-17; 4:15 pm]

BILLING CODE 6760-01-P